DEPARTMENT OF THE INTERIOR

Fish and Wildlife Service

Approved Recovery Plan for the Hungerford's Crawling Water Beetle

AGENCY: Fish and Wildlife Service, Interior.

ACTION: Notice of availability.

SUMMARY: We, the U.S. Fish and Wildlife Service (Service), announce availability of the approved recovery plan for the Hungerford's crawling water beetle (Brychius hungerfordi), a species that is federally listed as endangered under the Endangered Species Act of 1973, as amended (Act).

ADDRESSES: You may obtain a copy of the recovery plan by any of the following means:

1. World Wide Web: http://midwest.fws.gov/endangered; or

2. U.S. mail or in-person pickup: Field Supervisor, U.S. Fish and Wildlife Service, Ecological Services Field Office, 2651 Coolidge Road, Suite 101, East Lansing, MI 48823-6316.

FOR FURTHER INFORMATION CONTACT: Ms. Carrie Tansy, by U.S. mail (see ADDRESSES), or by telephone at (517) 351-2555, extension 289. TTY users may contact Ms. Tansy through the Federal Relay Service at (800) 877-8339.

SUPPLEMENTARY INFORMATION:

Background

Recovery of endangered or threatened animals or plants is a primary goal of our endangered species program. Recovery plans describe actions considered necessary for the conservation of the species, establish criteria for delisting species, and provide estimates of the time and cost for implementing the measures needed for recovery.

The Act (16 U.S.C. 1531 et seq.) requires the development of recovery plans for listed species, unless such a plan would not promote the conservation of a particular species. Section 4(f) of the Act, as amended in 1988, requires that we provide public notice and opportunity for public review and comment during recovery plan development. We announced availability of our draft recovery plan in the Federal Register on August 6, 2004 (69 FR 47950) and requested public comments. The comment period closed on September 7, 2004. In our preparation of the approved recovery plan, we considered information provided to us during the comment period, and we have summarized this information in an appendix to the recovery plan. A new population of the species was discovered since the publication of our draft plan in 2004. However, the information about this new population has resulted in only a slight shift in our recovery strategy for the species.

Hungerford's crawling water beetle was listed as endangered on March 7, 1994 (59 FR 10580). At the time of listing, this species was known to occur in only three streams—two in Michigan and one in Ontario, Canada. Since then, the species has been discovered in three additional streams in northern Michigan. The distribution of this species prior to its discovery in 1952 is not known. Currently, only one stream is known to support a large population of the species. Hungerford's crawling water beetle is an aquatic species that is found in areas of streams with good aeration, moderate to fast flow, inorganic substrate, and alkaline water conditions, often downstream from culverts, beaver and natural debris dams, and human-made impoundments. Very little information is available on the life history and habitat requirements of this species. Threats appear to be related to habitat alteration and degradation of water quality, and may include habitat modification, certain fish management activities, and human disturbance. Factors limiting the species' distribution are not known. The small populations and limited distribution of Hungerford's crawling water beetle make it vulnerable to chance demographic and environmental events. The recovery plan recommends research to examine important components of the species' biology and ecology that will contribute to the recovery program.

The objective of the recovery plan is to provide a framework for the recovery of Hungerford's crawling water beetle so that protection by the Act is no longer necessary. We may consider Hungerford's crawling water beetle for reclassification from Endangered to Threatened status when the likelihood of the species becoming extinct in the foreseeable future has been eliminated by achievement of the following interim criteria: (1) Life history, ecology, population biology, and habitat requirements are understood well enough to fully evaluate threats; and (2) a minimum of five U.S. populations, in at least three different watersheds, have had stable or increasing populations for at least 10 years, and at least one population is considered viable.

We will consider Hungerford's crawling water beetle for delisting when the likelihood of the species becoming threatened in the foreseeable future has been eliminated by the achievement of the following interim criteria: (1) Habitat necessary for long-term survival and recovery has been identified and conserved; and (2) a minimum of five U.S. populations, in at least three different watersheds, are sufficiently secure and adequately managed to assure long-term viability. The recovery criteria are interim because further research is needed to make them fully measurable. As new information about the species becomes available, and if new populations of the species are discovered, the recovery criteria will be revised. Additional details on downlisting and delisting criteria are available in the recovery plan.

We will meet these criteria through the following actions: (1) Conserve known sites; (2) conduct scientific research to facilitate recovery; (3) conduct additional surveys and monitor existing sites; (4) develop and implement public education and outreach; (5) revise recovery criteria and recovery tasks, as appropriate, based on research and new information; and (6) develop a plan to monitor B. hungerfordi after it is delisted.

Authority: The authority for this action is section 4(f) of the Endangered Species Act, 16 U.S.C. 1533(f).

Dated: September 15, 2006.
Wendi Weber,
Assistant Regional Director, Ecological Services, Region 3, Fort Snelling, Minnesota.

[FR Doc. E6-15795 Filed 9-27-06; 8:45 am]

BILLING CODE 4310-55-P